ENVIRONMENTAL PROTECTION AGENCY

40 CFR Part 52

[R05-OAR-2011-0968; FRL-9918-78-Region 5]

Approval and Promulgation of Air Quality Implementation Plans; Indiana; Withdrawal of Direct Final Rule

AGENCY: Environmental Protection Agency.

ACTION: Withdrawal of direct final rule.

SUMMARY: Due to the receipt of an adverse comment, the Environmental Protection Agency (EPA) is withdrawing the September 17, 2014, direct final rule approving a revision to provisions in Title 326 of the Indiana Administrative Code, Article 4, Rule 1, Open Burning Rule.

DATES: The direct final rule published at 79 FR 55641 on September 17, 2014, is withdrawn effective November 5, 2014.

FOR FURTHER INFORMATION CONTACT: Charles Hatten, Environmental Engineer, Control Strategies Section, Air Programs Branch (AR-18J), USEPA, Region 5, 77 West Jackson Boulevard, Chicago, Illinois 60604, (312) 886-6031 hatten.charles@epa.gov.

SUPPLEMENTARY INFORMATION: The State of Indiana submitted this revision as a modification to the State Implementation Plan for open burning on November 14, 2011. In the direct final rule, EPA stated that if adverse comments were submitted by October 17, 2014, the rule would be withdrawn and not take effect. On September 21, 2014, EPA received an adverse comment and, therefore, is withdrawing the direct final rule. EPA will address the comment in a subsequent final action based upon the proposed action also published on September 17, 2014. EPA will not institute a second comment period on this action.

List of Subjects in 40 CFR Part 52

Environmental protection, Air pollution control, Emissions Reporting, Incorporation by reference, Ozone, Volatile organic compounds.

Authority: 42 U.S.C. 7401 et seq.

Dated: October 24, 2014.
Susan Hedman,
Regional Administrator, Region 5.

PART 52—APPROVAL AND PROMULGATION OF IMPLEMENTATION PLANS

Accordingly, the amendment to 40 CFR 52.770 published in the Federal Register on September 17, 2014 (79 FR 55641) on pages 55644-55645 is withdrawn effective November 5, 2014.

[FR Doc. 2014-26164 Filed 11-4-14; 8:45 am]

BILLING CODE 6560-50-P